DEPARTMENT OF ENERGY

Federal Energy Regulatory Commission

[Docket No. RC11-6-018]

North American Electric Reliability Corporation; Notice of Staff Review of Enforcement Programs

Commission staff coordinated with the staff of the North American Electric Reliability Corporation (NERC) to conduct the annual oversight of the Find, Fix, Track and Report (FFT) program, as outlined in the March 15, 2012, Order,¹ and the Compliance Exception (CE) Program, as proposed by NERC's September 18, 2015, annual Compliance Filing and accepted by delegated letter order.²

¹ N. Am. Elec. Reliability Corp., 138 FERC ¶ 61,193, at P 73 (2012) (discussing Commission plans to survey a random sample of FFTs submitted each year to gather information on how the FFT program is working).

² N. Am. Elec. Reliability Corp., Docket No. RC11-6-004, at 1 (Nov. 13, 2015) (delegated letter order) (accepting NERC's proposal to combine the evaluation of CEs with the annual sampling of FTs)

Commission staff reviewed a sample of 32 of 173 FFTs and 30 of 889 CEs submitted by NERC between October 2022 and September 2023.

Commission staff found that the FFT and CE programs are meeting expectations. All 62 FFTs and CEs have been adequately remediated and the root cause of each noncompliance was clearly identified. Commission staff also reviewed the supporting information for these FFTs or CEs and agreed with the final risk determinations for all 62 noncompliances, which clearly identified the factors affecting the risk prior to mitigation (such as potential and actual risk) and actual harm. Further, no FFTs or CEs sampled contained any material misrepresentations by the registered entities. Commission staff found that the Regional Entities appropriately identified all 62 of the sampled noncompliances as appropriate to be processed as FFTs and CEs.

Dated: August 16, 2024.
Debbie-Anne A. Reese,
Acting Secretary.

[FR Doc. 2024-18895 Filed 8-22-24; 8:45 am]

BILLING CODE 6717-01-P